DEPARTMENT OF HOMELAND SECURITY

U.S. Customs and Border Protection

[1651-0121]

Agency Information Collection Activities: Trusted Traveler Programs and U.S. APEC Business Travel Card

AGENCY: U.S. Customs and Border Protection, Department of Homeland Security.

ACTION: 30-Day notice and request for comments; extension of an existing collection of information.

SUMMARY: U.S. Customs and Border Protection (CBP) of the Department of Homeland Security will be submitting the following information collection request to the Office of Management and Budget (OMB) for review and approval in accordance with the Paperwork Reduction Act: Trusted Traveler Programs and U.S. APEC Business Travel Card. This is a proposed extension of an information collection that was previously approved. CBP is proposing that this information collection be extended with no change to the burden hours or to the information collected. This document is published to obtain comments from the public and affected agencies.

DATES: Written comments should be received on or before February 12, 2015 to be assured of consideration.

ADDRESSES: Interested persons are invited to submit written comments on this proposed information collection to the Office of Information and Regulatory Affairs, Office of Management and Budget. Comments should be addressed to the OMB Desk Officer for Customs and Border Protection, Department of Homeland Security, and sent via electronic mail to oira_submission@omb.eop.gov or faxed to (202) 395-5806.

FOR FURTHER INFORMATION CONTACT: Requests for additional information should be directed to Tracey Denning, U.S. Customs and Border Protection, Regulations and Rulings, Office of International Trade, 90 K Street NE., 10th Floor, Washington, DC 20229-1177, at 202-325-0265.

SUPPLEMENTARY INFORMATION: This proposed information collection was previously published in the Federal Register (79 FR 49529) on August 21, 2014, allowing for a 60-day comment period. This notice allows for an additional 30 days for public comments. This process is conducted in accordance with 5 CFR 1320.10. CBP invites the general public and other Federal agencies to comment on proposed and/or continuing information collections pursuant to the Paperwork Reduction Act of 1995 (Pub. L. 104-13; 44 U.S.C. 3507). The comments should address: (a) Whether the collection of information is necessary for the proper performance of the functions of the agency, including whether the information shall have practical utility; (b) the accuracy of the agency's estimates of the burden of the collection of information; (c) ways to enhance the quality, utility, and clarity of the information to be collected; (d) ways to minimize the burden, including the use of automated collection techniques or the use of other forms of information technology; and (e) the annual costs to respondents or record keepers from the collection of information (total capital/startup costs and operations and maintenance costs). The comments that are submitted will be summarized and included in the CBP request for OMB approval. All comments will become a matter of public record. In this document, CBP is soliciting comments concerning the following information collection:

Title: Trusted Traveler Programs and U.S. APEC Business Travel Card.

OMB Number: 1651-0121.

Form Numbers: 823S (SENTRI) and 823F (FAST).

Abstract: This collection of information is for CBP's Trusted Traveler Programs, including the Secure Electronic Network for Travelers Rapid Inspection (SENTRI), which allows expedited entry at specified land border ports of entry along the U.S.-Mexico border; the Free and Secure Trade (FAST) Program, which provides expedited border processing for known, low-risk commercial drivers; and Global Entry, which allows pre-approved, low-risk air travelers expedited clearance upon arrival into the United States.

The purpose of all of these programs is to provide prescreened travelers expedited entry into the United States. The benefit to the traveler is less time spent in line waiting to be processed. These Trusted Traveler Programs are provided for in 8 CFR 235.7 and 235.12.

This information collection also includes the U.S. Asia-Pacific Economic Cooperation (APEC) Business Travel Card (ABTC) Program, which is a voluntary program that allows U.S. citizens to use fast-track immigration lanes at airports in the 20 other APEC member countries. This program is mandated by the Asia-Pacific Economic Cooperation Business Travel Cards Act of 2011, Public Law 112-54, and provided for by 8 CFR 235.13 and 8 CFR 103.7(b)(1)(ii)(N).

The data is collected on the applications and kiosks for the Trusted Traveler Programs. Applicants may apply to participate in these programs by using the Global On-line Enrollment System (GOES) at https://goes-app.cbp.dhs.gov. Applicants may also apply for SENTRI and FAST using paper forms (CBP Form 823S for SENTRI and CBP Form 823F for FAST) available at http://www.cbp.gov or at Trusted Traveler Enrollment Centers.

After arriving at the Federal Inspection Services area of the airport, participants in Global Entry can undergo a self-service inspection process using a Global Entry kiosk. During the self-service inspection, participants have their photograph and fingerprints taken, submit identifying information, and answer several questions about items they are bringing into the United States. When using the Global Entry kiosks, participants are required to declare all articles being brought into the United States pursuant to 19 CFR 148.11.

Current Actions: This submission is being made to extend the expiration date with no change to the burden hours. There are no changes to the information collected.

Type of Review: Extension (without change).

Affected Public: Individuals and Businesses.

SENTRI (Form 823S)

Estimated Number of Annual Respondents: 46,000.

Estimated Number of Total Annual Responses: 46,000.

Estimated Time per Response: 40 minutes.

Estimated Total Annual Burden Hours: 30,820.

Estimated Annual Costs: $5,623,500.

FAST (Form 823F)

Estimated Number of Annual Respondents: 28,910.

Estimated Number of Total Annual Responses: 28,910.

Estimated Time per Response: 40 minutes.

Estimated Total Annual Burden Hours: 19,370.

Estimated Annual Costs: $1,445,500.

Global Entry

Estimated Number of Annual Respondents: 630,125.

Estimated Number of Total Annual Responses: 630,125.

Estimated Time per Response: 40 minutes.

Estimated Total Annual Burden Hours: 422,184.

Estimated Annual Costs: $63,012,500.

ABTC

Estimated Number of Annual Respondents: 4,250.

Estimated Number of Total Annual Responses: 4,250.

Estimated Time per Response: 10 minutes.

Estimated Total Annual Burden Hours: 723.

Estimated Annual Costs: $297,500.

Global Entry Kiosks:

Estimated Number of Annual Respondents: 2,200,000.

Estimated Number of Total Annual Responses: 2,200,000.

Estimated Time per Response: 1 minute.

Estimated Total Annual Burden Hours: 35,200.

Dated: January 7, 2015.
Tracey Denning,
Agency Clearance Officer, U.S. Customs and Border Protection.

[FR Doc. 2015-00302 Filed 1-12-15; 8:45 am]

BILLING CODE 9111-14-P